DEPARTMENT OF HEALTH AND HUMAN SERVICES

Office of the Secretary

Findings of Scientific Misconduct

AGENCY: Office of the Secretary, HHS.

ACTION: Notice; correction.

SUMMARY: The Office of the Secretary, HHS, published a notice in the Federal Register of November 10, 2003, concerning a finding of scientific misconduct regarding Dr. Gelband. The document contained a typographical error.

FOR FURTHER INFORMATION CONTACT: Director, Division of Investigative Oversight, Office of Research Integrity, 301-443-5330.

Correction

In the Federal Register of November 10, 2003, in FR Doc. 03-28197, on page 63799 in the first column at letter “B” replace the first sentence to read: “Hypertension 2000 paper #2: Figure 1A merited retraction.”

Dated: November 18, 2003.
Lawrence J. Rhoades,
Acting Director, Office of Research Integrity.

[FR Doc. 03-29335 Filed 11-24-03; 8:45 am]

BILLING CODE 4150-31-P